NATIONAL SCIENCE FOUNDATION.

Notice of the Availability of a Draft Environmental Assessment

AGENCY: National Science Foundation.

ACTION: Notice of availability of a draft Environmental Assessment for proposed activities in the Pacific Ocean.

SUMMARY: The National Science Foundation gives notice of the availability of a draft Environmental Assessment for proposed activities in the Pacific Ocean.

The Division of Ocean Sciences in the Directorate for Geosciences (GEO/OCE) has prepared a draft Environmental Assessment for a marine geophysical survey by the Research Vessel Roger Revelle in the vicinity of Louisville Ridge in the Pacific Ocean, January-February 2006. The draft Environmental Assessment is available for public review for a 30-day period.

DATES: Comments must be submitted on or before August 8, 2005.

ADDRESSES: Copies of the draft Environmental Assessment are available upon request from: Dr. Alexander Shor, National Science Foundation, Division of Ocean Sciences, 4201 Wilson Blvd., Suite 725, Arlington, VA 22230. Telephone: (703) 292-8583. The draft is also available on the agency's Web site at http://www.nsf.gov/geo/oce/pubs/scripps_louisville_ridge_EA.pdf.

SUPPLEMENTARY INFORMATION: The Scripps Institution of Oceanography (SIO), with research funding from the National Science Foundation (NSF), plans to conduct a marine survey on six seamounts of the Louisville Ridge in the Southwest Pacific Ocean during January-February, 2006. The proposed action is to conduct a planned scientific rock-dredging, magnetic, and seismic survey program to examine the eruptive history of the submarine volcanoes there, and to collect date needed to design an effective Integrated Ocean Drilling Program (IODP) study on carefully-selected seamounts. The research will be carried out entirely within International Waters.

Numerous species of cetaceans and sea turtles occur in the Southwest Pacific Ocean. Several of the species are listed as Endangered under the U.S. Endangered Species Act (ESA). The increased underwater noise from the research may result in avoidance behavior by some marine animals, and other forms of disturbance. An integral part of the planned survey is a monitoring and mitigation program to minimize impacts of the proposed activities of marine species present, and to document the nature and extent of any effects. Injurious impacts to marine animal have not been proven to occur near equipment proposed to be used in this research; however, the planned monitoring and mitigation measures would minimize the possibility of such effects should they otherwise occur.

With the planned monitoring and mitigation measure, unavoidable impacts in each of the species of marine mammal that might be encountered are expected to be limited to short term localized changes in behavior and distribution near the seismic vessel. At most, such effects may be interpreted as falling within the Marine Mammal Protection Act (MMPA) definition of “Level B Harassment” for those species managed by NMFS. No long-term or significant effects are expected on individual marine mammals, or the populations to which they belong, or their habitats. The agency is currently consulting with the National Marine Fisheries Service regarding species within their jurisdiction potentially affected by this proposed activity.

Copies of the draft Environmental Assessment, titled “Environmental Assessment of a Planned Low-Energy Marine Seismic Survey by the Scripps Institution of Oceanography on the Louisville Ridge in the Southwest Pacific Ocean, January-February 2006”, are available upon request from:

Dr. Alexander Shor, National Science Foundation, Division of Ocean Sciences, 4201 Wilson Blvd., Suite 725, Arlington, VA 22230. Telephone: (703) 292-8583 or at the agency's Web site at: http://www.nsf.gov/geo/oce/pubs/scripps_louisville_ridge_EA.pdf. The National Science Foundation invites interested members of the public to provide written comments on this draft Environmental Assessment.

Dated: June 30, 2005.
Alexander Shor,
Program Director, Division of Ocean Sciences, National Science Foundation.

[FR Doc. 05-13316 Filed 7-6-05; 8:45 am]

BILLING CODE 7555-01-M